FEDERAL RESERVE SYSTEM

Agency Information Collection Activities: Announcement of Board Approval Under Delegated Authority and Submission to OMB

AGENCY: Board of Governors of the Federal Reserve System.

SUMMARY: Notice is hereby given of the final approval of proposed information collections by the Board of Governors of the Federal Reserve System (Board) under OMB delegated authority. Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT:

Federal Reserve Board Clearance Officer, Nuha Elmaghrabi, Office of the Chief Data Officer, Board of Governors of the Federal Reserve System, Washington, DC 20551 (202) 452-3829. Telecommunications Device for the Deaf (TDD) users may contact (202) 263-4869, Board of Governors of the Federal Reserve System, Washington, DC 20551.

OMB Desk Officer, Shagufta Ahmed, Office of Information and Regulatory Affairs, Office of Management and Budget, New Executive Office Building, Room 10235, 725 17th Street NW., Washington, DC 20503.

Final approval under OMB delegated authority of the revision, without extension, of the following reports:

1. Report title: Consolidated Financial Statements for Holding Companies, Parent Company Only Financial Statements for Large Holding Companies, Parent Company Only Financial Statements for Small Holding Companies, Financial Statements for Employee Stock Ownership Plan Holding Companies.¹

¹ The family of FR Y-9 reporting forms also contains the Supplement to the Consolidated Financial Statements for Holding Companies (FR Y-9CS) which is not being revised.

Agency form number: FR Y-9C, FR Y-9LP, FR Y-9SP, FR Y-9ES.

OMB control number: 7100-0128.

Frequency: Quarterly, semiannually, and annually.

Reporters: Bank holding companies (BHCs), savings and loan holding companies (SLHCs), and securities holding companies (SHCs) (collectively, “holding companies” (HCs)).

Estimated annual reporting hours: FR Y-9C (non Advanced Approaches): 130,964 hours; FR Y-9C (Advanced Approaches): 2,500 hours; FR Y-9LP: 17,178 hours; FR Y-9SP: 47,412 hours; FR Y-9ES: 43 hours.

Estimated average hours per response: FR Y-9C (non Advanced Approaches): 50.84 hours; FR Y-9C (Advanced Approaches): 52.09 hours; FR Y-9LP: 5.25 hours; FR Y-9SP: 5.40 hours; FR Y-9ES: 0.50 hours.

Number of respondents: FR Y-9C (non Advanced Approaches): 644; FR Y-9C (Advanced Approaches): 12; FR Y-9LP: 818; FR Y-9SP: 4,390; FR Y-9ES: 86.

General description of report: This information collection is mandatory for BHCs (12 U.S.C. 12 U.S.C. 1844(c)). Additionally, section 10 of Home Owners' Loan Act (HOLA) (12 U.S.C. 1467a(b)) and 1850a(c)(1)(A), respectively, authorize the Federal Reserve to require that SLHCs and supervised SHCs file the FR Y-9C with the Federal Reserve. Confidential treatment is not routinely given to the financial data in this report. However, confidential treatment for the reporting information, in whole or in part, can be requested in accordance with the instructions to the form, pursuant to sections (b)(4), (b)(6), or (b)(8) of the Freedom of Information Act (FOIA) (5 U.S.C. 522(b)(4), (b)(6), and (b)(8)).

Abstract: Pursuant to the Bank Holding Company Act of 1956, as amended, and HOLA, the Federal Reserve requires HCs to provide standardized financial statements to fulfill the Federal Reserve's statutory obligation to supervise these organizations. HCs file the FR Y-9C and FR Y-9LP quarterly, the FR Y-9SP semiannually, and the FR Y-9ES annually.

2. Report title: Consolidated Holding Company Report of Equity Investments in Nonfinancial Companies.

Agency form number: FR Y-12.

OMB control number: 7100-0300.

Frequency: Quarterly and semiannually.

Reporters: BHCs and SLHCs.

Estimated annual reporting hours: FR Y-9C filers: 1,452 hours; FR Y-9SP filers: 198 hours.

Estimated average hours per response: 16.50 hours.

Number of respondents: FR Y-9C filers: 22; FR Y-9SP filers: 6.

General description of report: This collection of information is mandatory pursuant to Section 5(c) of the BHC Act (12 U.S.C. 1844(c)) and section 10 of HOLA (12 U.S.C. 1467a(b)). The FR Y-12 data are not considered confidential. However, confidential treatment for the reporting information, in whole or in part, can be requested in accordance with the instructions to the form, pursuant to sections (b)(4), (b)(6), or (b)(8) of FOIA (5 U.S.C. 522(b)(4), (b)(6), and (b)(8)).

Abstract: The FR Y-12 collects information from certain domestic BHCs and SLHCs on their equity investments in nonfinancial companies. The FR Y-12 data serve as an important risk-monitoring device for institutions active in this business line by allowing supervisory staff to monitor an institution's activity between review dates. They also serve as an early warning mechanism, to identity institutions whose activities in this area are growing rapidly and therefore warrant special supervisory attention. Respondents report the FR Y-12 either quarterly or semi-annually based on reporting threshold criteria.

3. Report title: Banking Organization System Risk Report.

Agency form number: FR Y-15.

OMB control number: 7100-0352.

Frequency: Annually.

Reporters: BHCs with total consolidated assets of $50 billion or more, and any U.S.-based organizations identified as global systemically important banks (GSIBs) that do not otherwise meet the consolidated assets threshold for BHCs.

Estimated annual reporting hours: 9,735 hours.

Estimated average hours per response: 295 hours.

Number of respondents: 33.

General description of report: This collection of information is mandatory pursuant to section 5 of the BHC Act (12 U.S.C. 1844(c)). Except for those items subject to a delayed release, the individual data items collected on the FR Y-15 will be made available to the public for report dates beginning December 31, 2013. Though confidential treatment will not be routinely given to the financial data collected on the FR Y-15, respondents may request such treatment for any information that they believe is subject to an exemption from disclosure pursuant to sections (b)(4), (b)(6), or (b)(8) of FOIA (5 U.S.C. 522(b)(4), (b)(6), and (b)(8)).

Abstract: The FR Y-15 annual report collects systemic risk data from U.S. BHCs with total consolidated assets of $50 billion or more, and any U.S.-based organizations identified as GSIBs that do not otherwise meet the consolidated assets threshold for BHCs. The profile of the institutions which are subject to enhanced prudential standards under section 165 of the Dodd-Frank Wall Street Reform and Consumer Protection Act (DFA).

4. Report title: Financial Statements of U.S. Nonbank Subsidiaries of U.S. Holding Companies and the Abbreviated Financial Statements of U.S. Nonbank Subsidiaries of U.S. Holding Companies.

Agency form number: FR Y-11 and FR Y-11S.

OMB control number: 7100-0244.

Frequency: Quarterly and annually.

Reporters: HCs.

Estimated annual reporting hours: FR Y-11 (quarterly): 15,966 hours; FR Y-11 (annual): 2,441 hours; FR Y-11S: 429 hours.

Estimated average hours per response: FR Y-11: 6.80 hours; FR Y-11S: 1 hour.

Number of respondents: FR Y-11 (quarterly): 587; FR Y-11 (annual): 359; FR Y-11S: 429.

General description of report: This information collection is mandatory (12 U.S.C. 1844(c)). Confidential treatment is not routinely given to the data in these reports. However, confidential treatment for the reporting information, in whole or in part, can be requested in accordance with the instructions to the form, pursuant to sections (b)(4), (b)(6) and (b)(8) of FOIA (5 U.S.C. 522(b)(4), (b)(6) and (b)(8)).

Abstract: The FR Y-11 and FR Y-11S reporting forms collect financial information for individual non-functionally regulated U.S. nonbank subsidiaries of domestic HCs. HCs file the FR Y-11 on a quarterly or annual basis or the FR Y-11S annually based on size thresholds, and for the FR Y-11S, based on an additional threshold related to the percentage of consolidated assets of the top-tier organization. The FR Y-11 family of reports data are used with other HC data to assess the condition of HCs that are heavily engaged in nonbanking activities and to monitor the volume, nature, and condition of their nonbanking operations.

5. Report title: Financial Statements of Foreign Subsidiaries of U.S. Banking Organizations and the Abbreviated Financial Statements of Foreign Subsidiaries of U.S. Banking Organizations.

Agency form number: FR 2314 and FR 2314S.

OMB control number: 7100-0073.

Frequency: Quarterly and annually.

Reporters: Foreign subsidiaries of U.S. state member banks (SMBs), Edge and agreement corporations, and HCs.

Estimated annual reporting hours: FR 2314 (quarterly): 18,427 hours; FR 2314 (annual): 2,554 hours; FR 2314S: 480 hours.

Estimated average hours per response: FR 2314: 6.60 hours; FR 2314S: 1 hour.

Number of respondents: FR 2314 (quarterly): 698; FR 2314 (annual): 387; FR 2314S: 480.

General description of report: This information collection is mandatory (12 U.S.C. 324, 602, 625, and 1844(c)). Confidential treatment is not routinely given to the data in these reports. However, confidential treatment for the reporting information, in whole or in part, can be requested in accordance with the instructions to the form, pursuant to sections (b)(4), (b)(6) and (b)(8) of FOIA (5 U.S.C. 522(b)(4), (b)(6) and (b)(8)).

Abstract: The FR 2314 and FR 2314S reporting forms collect financial information for non-functionally regulated direct or indirect foreign subsidiaries of U.S. SMBs, Edge and agreement corporations, and HCs. Parent organizations (SMBs, Edge and agreement corporations, or HCs) file the FR 2314 on a quarterly or annual basis or the FR 2314S annually based on additional size thresholds. The FR 2314 family of reports data are used to identify current and potential problems at the foreign subsidiaries of U.S. parent companies, to monitor the activities of U.S. banking organizations in specific countries, and to develop a better understanding of activities within the industry, in general, and of individual institutions, in particular.

6. Report title: Financial Statements of U.S. Nonbank Subsidiaries Held by Foreign Banking Organizations, the Abbreviated Financial Statements of U.S. Nonbank Subsidiaries Held by Foreign Banking Organizations, and the Capital and Asset Report for Foreign Banking Organizations.

Agency form number: FR Y-7N, FR Y-7NS, and FR Y-7Q.

OMB control number: 7100-0125.

Frequency: Quarterly and annually.

Reporters: Foreign banking organizations (FBOs).

Estimated annual reporting hours: FR Y-7N (quarterly): 5,168 hours; FR Y-7N (annual): 612 hours; FR Y-7NS: 74 hours; FR Y-7Q (quarterly): 945 hours; FR Y-7Q (annual): 50 hours.

Estimated average hours per response: FR Y-7N (quarterly): 6.8 hours; FR Y-7N (annual): 6.8 hours; FR Y-7NS: 1 hour; FR Y-7Q (quarterly): 1.75 hours; FR Y-7Q (annual): 1.5 hours.

Number of respondents: FR Y-7N (quarterly): 190; FR Y-7N (annual): 90; FR Y-7NS: 74; FR Y-7Q (quarterly): 135; FR Y-7Q (annual): 33.

General description of report: This information collection is mandatory (12 U.S.C. 1844(c)) and sections 8(c) and 13 of the International Banking Act (12 U.S.C. 3106(c) and 3108)). Overall, the Federal Reserve does not consider these data to be confidential. However, individual respondents may request confidential treatment for any of these reports pursuant to sections (b)(4), (b)(6), or (b)(8) of FOIA (5 U.S.C. 522(b)(4), (b)(6), and (b)(8)). The applicability of these exemptions would need to be determined on a case-by-case basis.

Abstract: The FR Y-7N and FR Y-7NS collect financial information for non-functionally regulated U.S. nonbank subsidiaries held by FBOs other than through a U.S. BHC, U.S. financial holding company (FHC), or U.S. bank. FBOs file the FR Y-7N quarterly or annually or the FR Y-7NS annually predominantly based on asset size thresholds. The FR Y-7Q collects consolidated regulatory capital information from all FBOs either quarterly or annually. The FR Y-7Q is filed quarterly by FBOs that have effectively elected to become FHCs and by FBOs that have total consolidated assets of $50 billion or more, regardless of FHC status. All other FBOs file the FR Y-7Q annually.

7. Report title: Quarterly Savings and Loan Holding Company Report.

Agency form number: FR 2320.

OMB control number: 7100-0345.

Frequency: Quarterly.

Reporters: SLHCs.

Estimated annual reporting hours: 180 hours.

Estimated average hours per response: 2.5 hours.

Number of respondents: 18.

General description of report: This information collection is mandatory pursuant to section 312 of the DFA and section 10 of HOLA, as amended by section 369 of the DFA, (12 U.S.C. 1467a(b)(2)), as amended by Public Law 111-201, 369(8). Data items C572, C573, and C574 on Schedule HC may be protected from disclosure under exemption 4 of FOIA (5 U.S.C. 552(b)(4)). With regard to the remaining data items on Schedule HC, the Federal Reserve has determined that institutions may request confidential treatment for any FR 2320 data item or for all FR 2320 data items, and confidential treatment will be reviewed on a case-by-case basis.

Abstract: The FR 2320 collects select parent only and consolidated balance sheet and income statement financial data and organizational structure date from SLHCs exempt from initially filing Federal Reserve regulatory reports. The FR 2320 is used by the Federal Reserve to analyze the overall financial condition of exempt SLHCs to ensure safe and sound operations.

8. Report title: Savings Association Holding Company Report.

Agency form number: FR H-(b)11.

OMB control number: 7100-0334.

Frequency: Quarterly.

Reporters: SLHCs.

Estimated annual reporting hours: 264 hours.

Estimated average hours per response: 2 hours.

Number of respondents: 33.

General description of report: This information collection is mandatory (12 U.S.C. 1467a(b)(2)(A)). The FR H-(b)11 covers 6 different items. However, the Federal Reserve has determined that supplemental information in response to a “yes” answer for the Quarterly Savings and Loan Holding Company Report (FR 2320; OMB No. 7100-0345) FR 2320's questions 24, 25, and 26 may be protected from disclosure under exemption 4 of FOIA, which covers “trade secrets and commercial or financial information obtained from a person [that is] privileged or confidential” (5 U.S.C. 522(b)(4)). Confidential treatment for the remaining portion of the reporting information can be requested in accordance with the instructions to the form, pursuant to sections (b)(4), (b)(6), or (b)(8) of FOIA (5 U.S.C. 522(b)(4), (b)(6), and (b)(8)).

Abstract: The FR H-(b)11 collects from exempt SLHCs information on filings with the Securities and Exchange Commission (SEC), reports provided by the nationally recognized statistical rating organizations and securities analysts, supplemental information for select questions from the FR 2320, financial statements, and other materially important events and exhibits. The Federal Reserve uses the FR H-(b)11 data to analyze the overall financial condition of exempt SLHCs to ensure safe and sound operations.

9. Report title: Consolidated Report of Condition and Income for Edge and Agreement Corporations.

Agency form number: FR 2886b.

OMB control number: 7100-0086.

Frequency: Quarterly and annually.

Reporters: Banking Edge and agreement corporations and investment (nonbanking) Edge and agreement corporations.

Estimated annual reporting hours: Banking Edge and agreement corporations (quarterly): 424 hours; banking Edge and agreement corporations (annual): 15 hours; investment Edge and agreement corporations: (quarterly): 768 hours; investment Edge and agreement corporations: (annual): 182 hours.

Estimated average hours per response: Banking Edge and agreement corporations: 15.15 hours; investment Edge and agreement corporations: 9.60 hours.

Number of respondents: Banking Edge and agreement corporations (quarterly): 7; banking Edge and agreement corporations (annual): 1; investment Edge and agreement corporations: (quarterly): 20; investment Edge and agreement corporations: (annual): 19.

General description of report: This information is mandatory (12 U.S.C. 602, 625). In addition, with respect to the contact information collected in the Patriot Act Contact Information section, the Board's regulation's (12 CFR part 211.5(m)) instruct Edge and agreement corporations to comply with the information sharing regulations that the Department of the Treasury issued pursuant to Section 314(a) of the USA Patriot Act of 2001, Public Law 107-56, 115 Stat. 307 (31 U.S.C. 5318(h)); and implemented at 31 CFR part 1010.520(b).

For Edge corporations engaged in banking, current Schedules RC-M (with the exception of item 3) and RC-V are held confidential pursuant to Section (b)(4) of FOIA (5 U.S.C. 552(b)(4)). For investment Edge corporations, only information collected on Schedule RC-M (with the exception of item 3) are given confidential treatment pursuant to Section (b)(4) of FOIA (5 U.S.C. 552(b)(4)).

In addition, the information provided in the Patriot Act Contact Information section may be withheld as confidential under FOIA to prevent unauthorized individuals from falsely posing as an institution's point-of-contact in order to gain access to the highly sensitive and confidential communications sent by email between the Financial Crimes Enforcement Network or federal law enforcement officials and the Patriot Act point-of-contact. The identity and contact information of private individuals, which is collected and maintained for law enforcement purposes under the Patriot Act, appears exempt from disclosure pursuant to exemption 7(C) of FOIA (5 U.S.C. 552(b)(7)(C)).

Abstract: The FR 2886b collects quarterly financial data from banking Edge and agreement corporations and investment (nonbanking) Edge and agreement corporations. Except for examination reports, it provides the only financial data available for these corporations. The Federal Reserve is solely responsible for authorizing, supervising, and assigning ratings to Edge and agreement corporations. The Federal Reserve uses the data collected on the FR 2886b to identify present and potential problems and monitor and develop a better understanding of activities within the industry.

Current Actions: On March 27, 2015, the Federal Reserve published a notice in the Federal Register (80 FR 16386) requesting public comment for 60 days on the revision, without extension, of the financial statements for holding companies. The comment period expired on May 26, 2015. The Federal Reserve did not receive any public comments addressing the proposed revisions to these information collections. However, due to delays in enhancements to the Federal Reserve's automated systems, the Federal Reserve is extending the implementation date to March 31, 2016.

Board of Governors of the Federal Reserve System, August 25, 2015.
Robert deV. Frierson,
Secretary of the Board.

[FR Doc. 2015-21367 Filed 8-27-15; 8:45 am]

BILLING CODE 6210-01-P